DEPARTMENT OF THE INTERIOR

National Park Service

[N6345; NPS-WASO-NAGPRA-NPS0040600; PPWOCRADN0-PCU00RP14.R50000]

Notice of Inventory Completion: Tennessee Department of Environment and Conservation Division of Archaeology, Nashville, TN, and Middle Tennessee State University, Department of Anthropology, Murfreesboro, TN

AGENCY: National Park Service, Interior.

ACTION: Notice.

SUMMARY: In accordance with the Native American Graves Protection and Repatriation Act (NAGPRA), the Tennessee Department of Environment and Conservation, Division of Archaeology (TDEC-DOA) and Middle Tennessee State University, Department of Anthropology (MTSU) have completed an inventory of human remains and associated funerary objects from site 40RD299, Rutherford County, Tennessee and has determined that there is a cultural affiliation between the human remains and associated funerary objects and Indian Tribes or Native Hawaiian organizations in this notice.

DATES: Repatriation of the human remains and associated funerary objects in this notice may occur on or after August 28, 2025.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov and Dr. Shannon Hodge, Middle Tennessee State University (MTSU), Department of Sociology and Anthropology Chair, Todd 344 MTSU Campus Box 10, Murfreesboro, TN 37132, email Shannon.Hodge@mtsu.edu.

SUPPLEMENTARY INFORMATION: This notice is published as part of the National Park Service's administrative responsibilities under NAGPRA. The determinations in this notice are the sole responsibility of the TDEC-DOA and MTSU, and additional information on the determinations in this notice, including the results of consultation, can be found in its inventory or related records. The National Park Service is not responsible for the determinations in this notice.

Abstract of Information Available

Human remains representing, at least, seven individuals have been identified. The associated funerary objects are two lots of unsorted pre-Contact artifacts.

409RD299, Rutherford County, TN

Human remains of at least four individuals were recovered by the Rutherford County Sheriff during forensic investigations in 2004 or 2007 and donated to TDEC-DOA in 2010. The remains of at least one individual were collected by TEC-DOA staff from the backdirt of a looter pit during a site inspection in 2011. Remains of at least two individuals were recovered during site mitigation and testing by Middle Tennessee State University in 2014. Associated funerary objects recovered in 2014 include two lots of unsorted artifacts known to include lithics, charcoal, ochre, and faunal material including a partial dog burial. There is no known exposure to hazardous substances or treatments.

Cultural Affiliation

Based on the information available and the results of consultation, cultural affiliation is reasonably identified by the geographical location or acquisition history of the human remains and associated funerary objects described in this notice.

Determinations

The TDEC-DOA and MTSU have determined that:

• The human remains described in this notice represent the physical remains of seven individuals of Native American ancestry.

• The two lots of pre-contact artifacts described in this notice are reasonably believed to have been placed intentionally with or near individual human remains at the time of death or later as part of the death rite or ceremony.

• There is a connection between the human remains and associated funerary objects described in this notice and the Absentee-Shawnee Tribe of Indians of Oklahoma; Cherokee Nation; Eastern Band of Cherokee Indians; Eastern Shawnee Tribe of Oklahoma; Shawnee Tribe; The Muscogee (Creek) Nation; Thlopthlocco Tribal Town; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 28, 2025. If competing requests for repatriation are received, the TDEC-DOA and MTSU must determine the most appropriate requestor prior to repatriation. Requests for joint repatriation of the human remains and associated funerary objects are considered a single request and not competing requests. The TDEC-DOA and MTSU is responsible for sending a copy of this notice to the Indian Tribes and Native Hawaiian organizations identified in this notice.

Authority: Native American Graves Protection and Repatriation Act, 25 U.S.C. 3003, and the implementing regulations, 43 CFR 10.10.

Dated: July 9, 2025.
Melanie O'Brien,
Manager, National NAGPRA Program.

[FR Doc. 2025-14267 Filed 7-28-25; 8:45 am]

BILLING CODE 4312-52-P